DEPARTMENT OF JUSTICE

[OMB Number 1105-0099]

Agency Information Collection Activities; Proposed eCollection eComments Requested; Extension Without Change of a Currently Approved Collection; USMS Medical Forms

AGENCY: U.S. Marshals Service, Department of Justice.

ACTION: 60-Day notice.

SUMMARY: The U.S. Marshals Service (USMS), Department of Justice (DOJ), will submit the following information collection request to the Office of Management and Budget (OMB) for review and approval in accordance with the Paperwork Reduction Act of 1995.

DATES: Comments are encouraged and will be accepted for 60 days until March 6, 2023.

FOR FURTHER INFORMATION CONTACT: If you have additional comments, particularly with respect to the estimated public burden or associated response time, have suggestions, need a copy of the proposed information collection instrument with instructions, or desire any additional information, please contact Nicole Timmons either by mail at CG-3, 10th Floor, Washington, DC 20530-0001, by email at Nicole.Timmons@usdoj.gov, or by telephone at 202-236-2646.

SUPPLEMENTARY INFORMATION: Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Evaluate whether and if so how the quality, utility, and clarity of the information to be collected can be enhanced; and

• Minimize the burden of the collection of information on those who are to respond, including through the use of appropriate automated, electronic, mechanical, or other technological collection techniques or other forms of information technology, e.g., permitting electronic submission of responses.

Overview of This Information Collection

1. Type of Information Collection: Extension and revision of a currently approved collection.

2. The Title of the Form/Collection: USMS Medical Forms.

3. The agency form number, if any, and the applicable component of the Department sponsoring the collection:

Form Numbers: USM-522A Physician Evaluation Report for USMS Operational Employees.

USM-522P Physician Evaluation Report for USMS Operational Employees—Pregnancy Only.

USM-600 Physical Requirements of USMS District Security Officers.

CSO-012 Request to Reevaluate Court Security Officer's Medical Qualification.

4. Affected public who will be asked or required to respond, as well as a brief abstract:

Affected public: Private sector (Physicians).

USM-522A Physician Evaluation Report for USMS Operational Employees.

Brief abstract: This form is completed by an USMS operational employee's treating physician to report any illness/injury (other than pregnancy) that requires restriction from full performance of duties for longer than 80 consecutive hours.

USM-522P Physician Evaluation Report for USMS Operational Employees (Pregnancy Only).

Brief abstract: Form USM-522P must be completed by the OB/GYN physician of pregnant USMS operational employees to specify any restrictions from full performance of duties.

USM-600 Physical Requirements of USMS District Security Officers.

Brief abstract: It is the policy of the USMS to ensure a law enforcement work force that is medically able to safely perform the required job functions. All applicants for law enforcement positions must have pre-employment physical examinations; existing District Security Officers (DSOs) must recertify that they are physically fit to perform the duties of their position each year. DSOs are individual contractors, not employees of USMS; Form USM-522 does not apply to DSOs.

CSO-012 Request to Reevaluate Court Security Officer's Medical Qualification.

Brief abstract: This form is completed by the Court Security Officer (CSO)'s attending physician to determine whether a CSO is physically able to return to work after an injury, serious illness, or surgery. The physician returns the evaluation to the contracting company, and if the determination is that the CSO may return to work, the CSO-012 is then signed off on by the contracting company and forwarded to the USMS for final review by USMS' designated medical reviewing official. Court Security Officers are contractors, not employees of USMS; Form USM-522A does not apply to CSOs.

5. An estimate of the total number of respondents and the amount of time estimated for an average respondent to respond:

USM-522A Physician Evaluation Report for USMS Operational Employees.

It is estimated that 208 respondents will complete a 20 minute form twice per year.

USM-522P Physician Evaluation Report for USMS Operational Employees (Pregnancy Only) It is estimated that 7 respondents will complete a 15 minute form twice per year.

USM-600 Physical Requirements of USMS District Security Officers. It is estimated that 2,000 respondents will complete a 20 minute form.

CSO-012 Request to Reevaluate Court Security Officer's Medical Qualification.

It is estimated that 300 respondents will complete a 30 minute form.

6. An estimate of the total public burden (in hours) associated with the collection:

USM-522A Physician Evaluation Report for USMS Operational Employees.

There are an estimated 139 annual total burden hours associated with this collection.

USM-522P Physician Evaluation Report for USMS Operational Employees (Pregnancy Only) There are an estimated 4 annual total burden hours associated with this collection.

USM-600 Physical Requirements of USMS District Security Officers. There are an estimated 667 annual total burden hours associated with this collection.

CSO-012 Request to Reevaluate Court Security Officer's Medical Qualification.

There are an estimated 150 annual total burden hours associated with this collection.

Total Annual Time Burden (Hr): 960.

If additional information is required contact: Robert Houser, Department Clearance Officer, Policy and Planning Staff, Justice Management Division, United States Department of Justice, Two Constitution Square, 145 N Street NE, 3E.206, Washington, DC 20530.

Dated: December 28, 2022.
Robert Houser,
Department Clearance Officer for PRA, Office of Chief Information Officer, U.S. Department of Justice.

[FR Doc. 2022-28523 Filed 12-30-22; 8:45 am]

BILLING CODE 4410-FY-P